CORPORATION FOR NATIONAL AND COMMUNITY SERVICE

Sunshine Act Notice; Meeting

The National Civilian Community Corps Advisory Board gives notice of the following meeting:

Date and Time: Thursday, June 7, 2007, 9 a.m. until 1 p.m.

Place: Lobby Conference Room, Corporation for National and Community Service Headquarters, 1201 New York Avenue, NW., Washington, DC 20525.

Status: Open.

Matters To Be Considered:

I. Program Briefing—Current Activities.

II. NCCC Reform Plan & Timeline.

III. Proposed Fundraising Strategy.

IV. Evaluation Strategy.

V. FY '08 Budget Status.

VI. NCCC Advisory Board Governance Structure & Membership.

VII. Wrap-up.

Accommodations: Anyone who needs an interpreter of other accommodation should notify the Corporation's contact person by 5 p.m. Tuesday, June 5, 2007.

Contact Person for More Information: Erma Hodge, NCCC, Corporation for National and Community Service, 10th Floor, Room 10404A, 1201 New York Avenue NW., Washington, DC 20525. Phone (202) 606-6696. Fax (202) 606-3462. TDD: (202) 606-3472. E-mail: ehodge@cns.gov.

Dated: May 30, 2007.
Frank R. Trinity,
General Counsel.

[FR Doc. 07-2771 Filed 5-30-07; 3:30 pm]

BILLING CODE 6050-$$-M